ENVIRONMENTAL PROTECTION AGENCY

[EPA-HQ-OPP-2017-0751; FRL-11909-01-OCSPP]

Pesticide Registration Review; Decisions for Several Pesticides; Notice of Availability

AGENCY: Environmental Protection Agency (EPA).

ACTION: Notice.

SUMMARY: This notice announces the availability of EPA's interim registration review decision for bromine. The notice also announces the availability of EPA's final registration review decisions for the following chemicals: Agrobacterium radiobacter, polybutene resins, and porcine zona pellucida (PZP).

FOR FURTHER INFORMATION CONTACT:

For pesticide specific information, contact: The Chemical Review Manager for the pesticide of interest identified in table 1 of unit I.

For general information on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Purpose of This Notice

Pursuant to 40 CFR 155.58(c), this notice announces the availability of EPA's interim or final registration review decisions for the pesticides shown in table 1. The interim and final registration review decisions are supported by rationales included in the docket established for each chemical.

Table 1—Interim and Final Registration Review Decisions Being Issued
Registration review case name and No. | Docket ID No. | Chemical review manager and contact information
Agrobacterium radiobacter, Case Number 4101 | EPA-HQ-OPP-2022-0860 | Joseph Mabon, mabon.joseph@epa.gov, (202) 566-1535.
Bromine, Case Number 4015 | EPA-HQ-OPP-2021-0034 | Megan Snyderman, snyderman.megan@epa.gov, (202) 566-0639.
Polybutene Resins, Case Number 4076 | EPA-HQ-OPP-2022-0799 | Michelle Nolan, nolan.michelle@epa.gov, (202) 566-2237.
Porcine Zona Pellucida (PZP), Case Number 7801 | EPA-HQ-OPP-2022-0153 | Christian Bongard, bongard.christian@epa.gov, (202) 566-2248.

II. Background

EPA is conducting its registration review of the chemicals listed in table 1 of unit I pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed interim or final registration review decisions for the pesticides in table 1 of unit I.

Prior to completing the interim or final registration review decisions in table 1 of unit I, EPA posted proposed interim decisions or proposed registration review decisions for these chemicals and invited the public to submit any comments or new information, consistent with 40 CFR 155.58(a). EPA considered and responded to any comments or information received during these public comment periods in the respective interim decision or final registration review decisions.

For additional background on the registration review program, see: https://www.epa.gov/pesticide-reevaluation.

Authority: 7 U.S.C. 136 et seq.

Dated: April 30, 2024.
Timothy Kiely,
Acting Director, Pesticide Re-Evaluation Division, Office of Pesticide Programs.

[FR Doc. 2024-09768 Filed 5-3-24; 8:45 am]

BILLING CODE 6560-50-P